DEPARTMENT OF HEALTH AND HUMAN SERVICES

Office of Refugee Resettlement

Public/Private Refugee Cash Assistance Inflationary Increase

AGENCY: Office of Refugee Resettlement (ORR), Administration for Children and Families (ACF), Department of Health and Human Services (HHS).

ACTION: Notice of change in payment ceilings.

SUMMARY: In accordance with ORR regulations, the Director of ORR is announcing an inflationary increase to the public/private Refugee Cash Assistance (RCA) program's monthly payment ceilings, effective October 1, 2021. The current payment ceilings have remained fixed since March 22, 2000, despite inflation. The new payment ceilings accommodate that inflation and will provide arriving ORR-eligible populations greater economic stability as they transition to self-sufficiency.

DATES: The changes described in this Federal Register Notice are effective October 1, 2021.

FOR FURTHER INFORMATION CONTACT: Colleen Mahar-Piersma, Refugee Policy Unit, Division of Policy and Procedures, Office of the Director, Office of Refugee Resettlement, Administration for Children and Families, by phone at (202) 260-5493, and email at refugeepolicy@acf.hhs.gov.

SUPPLEMENTARY INFORMATION:

ORR-eligible populations are eligible for up to eight months of RCA after their initial ORR eligibility date if they are deemed ineligible for the Temporary Assistance for Needy Families (TANF) program. When TANF was established in 1996, ORR gave states the option to either establish a publicly administered RCA program modeled after their TANF program in terms of eligibility determinations and benefits levels, or the option to establish a public/private partnership (PPP) RCA program. States that chose the PPP RCA model proposed a plan to ORR that created their income eligibility standard and may have included sliding scale payments or incentives for early employment aimed at refugee self-sufficiency, as long as they remained within the established payment ceilings.

ORR established the PPP RCA monthly payment ceilings codified at 45 CFR 400.60(a) using the poverty guidelines developed by the Assistant Secretary for Planning and Evaluation within HHS. These poverty guidelines, which are updated annually, are mainly used for administrative purposes such as determining an individual's eligibility for certain programs. When ORR established the current PPP RCA monthly payment ceilings, it used the 1998 HHS Poverty Guidelines with the following formula: “50% of the 1998 HHS Poverty Guidelines for each family size, divided by 12 months. . . .” Where family units were greater than four people, the monthly payment ceiling was increased by $70 for each additional person.

These PPP RCA payment ceilings have remained fixed since March 22, 2000, despite inflation and an increased cost of living nationwide. The payment ceilings are insufficient to meet refugees' initial expenses for housing, utilities, transportation, food, and other essentials, as they acclimate to their new communities and try to secure employment. Refugees generally have no other means of assistance such as savings or family resources to assist in the early days of arrival. Additionally, more than half of current projected ORR-eligible arrivals do not benefit from assistance from the Department of State's Reception and Placement Program, making RCA a critical source of support as they strive for economic self-sufficiency and integration.

As such, in accordance with ORR regulations at 45 CFR 400.60(d), the ORR Director has determined that the PPP RCA payment ceilings need to be adjusted for inflation.

Using ORR's original formula in relation to the 2021 HHS poverty guidelines, the adjusted PPP RCA payment ceilings are:

Public/Private RCA Payment Ceilings
Size of family unit | Monthly payment ceiling
1 | $537
2 | 726
3 | 915
4 | 1,104

Where family units are greater than four people, the monthly payment ceiling is increased by $113 for each additional person.

These payment ceilings only apply to RCA recipients within PPP-administered programs. All remaining RCA programs must continue to follow their established TANF rate.

To implement the RCA payment ceilings outlined in this Notice, the State/Replacement Designee (RD) must first revise its State Plan and ORR-1 CMA estimate. ORR will issue further guidance on how a State/RD should address implementation of the new public/private partnership RCA rate in its State Plan and ORR-1 prior to the implementation of the increased rate.

ORR will also conduct minimally, a bi-annual review of the HHS Poverty Guidelines, the established PPP rates, and the availability of funding with the goal of enacting more responsive and equitable cash assistance rates in the public/private RCA program.

(Authority: 45 CFR 400.60)

Dated: September 24, 2021.
Cindy Huang,
Director of the Office of Refugee Resettlement.

[FR Doc. 2021-21369 Filed 9-30-21; 8:45 am]

BILLING CODE 4120-27-P